DEPARTMENT OF JUSTICE

Antitrust Division

Notice Pursuant to the National Cooperative Research and Production Act of 1993—The Telemanagement Forum

Notice is hereby given that, on January 8, 2014, pursuant to Section 6(a) of the National Cooperative Research and Production Act of 1993, 15 U.S.C. 4301 et seq. (“the Act”), (“The Forum”) has filed written notifications simultaneously with the Attorney General and the Federal Trade Commission disclosing changes in its membership. The notifications were filed for the purpose of extending the Act's provisions limiting the recovery of antitrust plaintiffs to actual damages under specified circumstances. Specifically, Gilgamesh OSS Services, Weybridge, UNITED KINGDOM; Plug and Play Tech Center, Sunnyvale, CA; Sigma Software Solutions Inc, Toronto, CANADA; Bromium, Cupertino, CA; Kreare Assessoria Empresarial, São Paulo, BRAZIL; DAX Technologies, Matawan, NJ; metaWEAVE, Centurion CBD, SOUTH AFRICA; Transtelecom JSC, Astana, KAZAKHSTAN; Inetra, Novosibirsk, RUSSIA; Entel Chile PCS Telecomunicaciones SA, Santiago,CHILE; TeleMedia Strategy Group, LLC, Pembroke Pines, FL; Oger Telecom Management Services Company Ltd., Istanbul, TURKEY; Detica Ltd., London, UNITED KINGDOM; iiNet Ltd., Subiaco, AUSTRALIA; Saudi Business Machines, Riyadh, SAUDI ARABIA; Swiss Mobility Solutions, Alicante, SPAIN; Telekom Networks Malawi Ltd., Blantyre, MALAWI; Timir LTD, Almaty, KAZAKHSTAN; GAPASK Inc., Brossard, CANADA; Janus Consulting Partners, Addison, TX; NTS New Technology Systems GmbH, Wilhering, AUSTRIA; Fachhochschule der Technik (FHDW), Paderborn, GERMANY; Celfocus, London, UNITED KINGDOM; Ekinno Lab Sp. Z o.o., Gliwice, POLAND; Neurocom SA, Athens, GREECE; Century Telecom Lebanon, Beirut, LEBANON; EnterpriseWeb, Glen Falls, NY; Dayan Tech, Conakry, GUINEA; Zain Kuwait, Safat, KUWAIT; Calix, Inc., Petaluma, CA; TIERONE OSS Technologies USA, Inc., Reston, VA; and Instituto Costarricense de Electricidad ICE, San Jose, COSTA RICA, have been added as a parties to this venture.

The following members have changed their names: SYMBIOSS to ARTIN Solutions, Senec, SLOVAK REPUBLIC; Delta Partners to Delta Partners FZ LLC, Dubai, UNITED ARAB EMIRATES; DGiT Consultants Pty Ltd. to DGIT, South Yarra, AUSTRALIA; i2Cat to Fundació Privada i2cat, Barcelona, SPAIN; Guavus, Inc. to Guavus, San Mateo, CA; Nokia Siemens Networks to Nokia Solutions and Networks, Munich, GERMANY; Trilogy Software Bolivia to Salamanca Solutions International, Cochabamba, BOLIVIA; and Siemens AG Oesterreich to Siemens Convergence Creators GmbH, Vienna, AUSTRIA.

The following members have withdrawn as parties to this venture: Agile Birds sprl, Jalhay, BELGIUM; Attensity Group, Palo Alto, CA; BillingPlatform, Denver, CO; Boliviatel S.A., Cochabamba, BOLIVIA; Eurex Frankfurt AG, Eschborn, GERMANY; Incoma, Moscow, RUSSIA; Intune Networks, Dublin, IRELAND; IWF Consultoria e Treinamento, São Paulo, BRAZIL; Kapsch CarrierCom AG, Vienna, AUSTRIA; MACH Sarl, Contern, LUXEMBOURG; MicroStrategy South Africa (Pty) Ltd., Bryanston, SOUTH AFRICA; Nipsoft Business System AB, Solleftea, SWEDEN; Northrop Grumman Systems Corporation, acting through its Northrop Grumman Information Systems Sector, Cyber Solutions Division, McLean, VA; OJSC “Rostelecom”, Moscow, RUSSIA; RPG Grupo Consultores C.A., Miranda, VENEZUELA; Sandvine, Inc., Ontario, CANADA; Software AG, Saarbrucken, GERMANY; STC KOMSET, Moscow, RUSSIA; Terminus Technologies Pvt. Ltd., Ras Al Khaimah, UNITED ARAB EMIRATES; The Rural Link, Calgary, CANADA; Ultrapower Software Co., Ltd., Beijing, PEOPLE'S REPUBLIC Of CHINA; VIA FERRATA, Hasselt, BELGIUM; and Volubill, Montbonnot Saint Martin, FRANCE.

No other changes have been made in either the membership or planned activity of the group research project. Membership in this group research project remains open, and The Forum intends to file additional written notifications disclosing all changes in membership.

On October 21, 1988, The Forum filed its original notification pursuant to Section 6(a) of the Act. The Department of Justice published a notice in the Federal Register pursuant to Section 6(b) of the Act on December 8, 1988 (53 FR 49615).

The last notification was filed with the Department on October 7, 2013. A notice was published in the Federal Register pursuant to Section 6(b) of the Act on November 12, 2013 (78 FR 67400).

Patricia A. Brink,
Director of Civil Enforcement, Antitrust Division.

[FR Doc. 2014-03626 Filed 2-19-14; 8:45 am]

BILLING CODE P